ENVIRONMENTAL PROTECTION AGENCY

40 CFR Part 197

[FRL-7017-5]

RIN 2060-AG14

Public Health and Environmental Radiation Protection Standards for Yucca Mountain, Nevada

AGENCY: Environmental Protection Agency.

ACTION: Final rule; correction.

SUMMARY: On June 13, 2001, we, the Environmental Protection Agency (EPA), published in the Federal Register a document establishing the public health and environmental radiation protection standards for Yucca Mountain, Nevada. One section of the preamble was inadvertently omitted. This document adds that section.

DATES: Effective on July 24, 2001.

FOR FURTHER INFORMATION CONTACT: Ray Clark, Office of Radiation and Indoor Air, U.S. Environmental Protection Agency, Washington, D.C. 20460-0001; telephone 202-564-9310.

SUPPLEMENTARY INFORMATION: We published a document in the Federal Register of June 13, 2001, (66 FR 32073) establishing the public health and environmental radiation protection standards for Yucca Mountain, Nevada. In the Regulatory Analysis section, the certification required under the Regulatory Flexibility Act was inadvertently omitted.

In FR Doc. 01-14626 (66 FR 32073), make the following corrections:

(1) On page 32131, column one, Section H entitled “Regulatory Flexibility Act (RFA), as amended by the Small Business Regulatory Fairness Act of 1996 (SBREFA), 5 U.S.C. 3501-20” is corrected to read:

Under the Regulatory Flexibility Act, 5 U.S.C. 601 et seq., agencies must prepare and make available for public comment an initial regulatory flexibility analysis assessing the impact of a rule upon “small entities” (5 U.S.C. 603). “Small entities” include small businesses, small not-for-profit enterprises, and government entities with jurisdiction over populations of less than 50,000 (5 U.S.C. 601). However, the requirement to prepare a regulatory flexibility analysis does not apply if the Administrator certifies that the rule will not, if promulgated, have a significant economic impact upon a substantial number of small entities (5 U.S.C. 605(b)). The rule today would establish requirements that apply only to the Department of Energy. Therefore, it does not apply to small entities. Accordingly, I hereby certify that the rule will not have a significant economic impact upon a substantial number of small entities.

(2) A new section K is added to read:

K. Congressional Review Act

The Congressional Review Act, 5 U.S.C. 801 et seq., generally provides that before a rule may take effect, the agency promulgating the rule must submit a rule report, which includes a copy of the rule, to each House of the Congress and to the Comptroller General of the United States. Section 804, however, exempts from section 801 the following types of rules: rules of particular applicability; rules relating to agency management or personnel; and rules of agency organization, procedure, or practice that do not substantially affect the right or obligations of non-agency parties. (5 U.S.C. 804(3)). We are not required to submit a rule report regarding today's action under section 801 because this is a rule of particular applicability.

Dated: July 18, 2001.
Christine Todd Whitman,
Administrator.

[FR Doc. 01-18407 Filed 7-23-01; 8:45 am]

BILLING CODE 6560-50-P